DEPARTMENT OF ENERGY

10 CFR Parts 433 and 435

[Docket No. EE-RM/STD-02-112]

RIN 1904-AC13

Energy Efficiency and Sustainable Design Standards for New Federal Buildings

AGENCY: Office of Energy Efficiency and Renewable Energy, Department of Energy.

ACTION: Proposed rulemaking; extension of comment period.

SUMMARY: The U.S. Department of Energy (DOE) published a document in the Federal Register on May 28, 2010, concerning a public meeting and availability of the notice of proposed rulemaking (NOPR) regarding the application of sustainable design principals with respect to the siting, design, and construction of new Federal buildings. This notice extends the comment period to August 12, 2010.

DATES: DOE will hold a public meeting in Washington, DC, on Wednesday, July 28, 2010, beginning at 9 a.m. DOE must receive requests to speak at the meeting before 4 p.m., Wednesday, July 14, 2010. DOE must receive a signed original and an electronic copy of statements to be given at the public meeting before 4 p.m., Wednesday, July 21, 2010. Written comments on the NOPR are welcome, especially following the public meeting, and should be submitted by Thursday, August 12, 2010.

ADDRESSES: The public meeting will be held at the U.S. Department of Energy, Forrestal Building, Room 8E-089, 1000 Independence Avenue, SW., Washington, DC 20585-0121. To attend the public meeting, please notify Ms. Brenda Edwards at (202) 586-2945. Please note that foreign nationals participating in the public meeting are subject to advance security screening procedures, requiring a 30-day advance notice. If you are a foreign national and wish to participate in the public meeting, please inform DOE as soon as possible by contacting Ms. Brenda Edwards at (202) 586-2945 so that the necessary procedures can be completed.

FOR FURTHER INFORMATION CONTACT: Cyrus Nasseri, U.S. Department of Energy, Office of Energy Efficiency and Renewable Energy, Federal Energy Management Program, EE-2L, 1000 Independence Avenue, SW., Washington, DC 20585-0121, (202) 586-9138, e-mail: Cyrus.Nasseri@ee.doe.gov, or Ami Grace-Tardy, U.S. Department of Energy, Office of the General Counsel, Forrestal Building, GC-71, 1000 Independence Avenue, SW., Washington, DC 20585, (202) 586-5709, e-mail: Ami.Grace-Tardy@hq.doe.gov.

SUPPLEMENTARY INFORMATION: DOE published a document in the Federal Register on May 28, 2010 (75 FR 29933), concerning a public meeting and availability of the NOPR regarding the application of sustainable design principals with respect to the siting, design, and construction of new Federal buildings. This document extends the comment period by 15 days to August 12, 2010.

The purpose of the July 28, 2010, public meeting is to discuss the NOPR regarding the application of sustainable design principals with respect to the siting, design, and construction of new Federal buildings. For additional information regarding the NOPR and the public meeting, including detailed instructions for the submission of comments and access to the docket to read background documents or comments received, please refer to the May 28, 2010 notice (75 FR 29933). The Department welcomes all interested parties, regardless of whether they participate in the public meeting, to submit written comments regarding matters addressed in the NOPR, as well as any other related issues, by August 12, 2010.

Issued in Washington, DC on June 11, 2010.
Cathy Zoi,
Assistant Secretary, Energy Efficiency and Renewable Energy.

[FR Doc. 2010-14752 Filed 6-17-10; 8:45 am]

BILLING CODE 6450-01-P